NATIONAL SCIENCE FOUNDATION

Proposal Review Panel for Innovation and Technology Ecosystems; Notice of Meeting

In accordance with the Federal Advisory Committee Act (Pub. L. 92-463, as amended), the National Science Foundation (NSF) announces the following meeting:

Name and Committee Code: Proposal Review Panel for Innovation and Technology Ecosystems (#84685)—University of Louisville Site Visit.

Date and Time: September 12, 2023; 3:00 p.m.-7:00 p.m.; September 13, 2023; 8:30 a.m.-7:45 p.m.; September 14, 2023; 8:00 a.m.-2:00 p.m.

Place: University of Louisville, Ignite Innovation Building, 252 E Market St, Louisville, KY 40202.

Tour Locations: AMIST 334 Eastern Parkway, Vogt Building #104, Louisville, KY 40208; and MEMStim 1205 E. Washington Street, Louisville, KY 40206.

Type of Meeting: Part-open.

Contact Persons: Geoffrey Brown, Program Director, National Science Foundation, 2415 Eisenhower Avenue, Alexandria, Virginia 22314; Telephone (703) 292-4979.

Purpose of Meeting: NSF site visit to provide advice and recommendations concerning the progress and future activities of the projects that are one year into two-year awards.

Agenda

September 12, 2023

3:00 p.m.-4:15 p.m.—Executive Sessions (Closed)

4:15 p.m.-7:00 p.m.—Tour of AMIST and MEMStim (Open)

September 13, 2023

8:30 a.m.-7:45 p.m.—Executive Sessions (Closed)

September 14, 2023

8:00 a.m.-2:00 p.m.—Executive Sessions (Closed)

Reason for Closing: Topics to be discussed and evaluated during closed portions of the site review will include information of a proprietary or confidential nature, including technical information; and information on personnel. These matters are exempt under 5 U.S.C. 552b(c), (4) and (6) of the Government in the Sunshine Act.

Dated: August 17, 2023.
Crystal Robinson,
Committee Management Officer.

[FR Doc. 2023-18064 Filed 8-21-23; 8:45 am]

BILLING CODE 7555-01-P